Title 3—

The President

Executive Order 13358 of September 28, 2004

Assignment of Functions Relating to Certain Appointments, Promotions, and Commissions in the Armed Forces

By the authority vested in me as President by the Constitution and the laws of the United States of America, including section 301 of title 3, United States Code, it is hereby ordered as follows:

Section 1. Assignment of Functions to the Secretary of Defense. The Secretary of Defense shall perform, except with respect to the Coast Guard during any period in which it is not operating as a service in the Navy, the functions of the President under the following provisions of title 10, United States Code:

(a) subsection 1521(a);

(b) the first sentence of subsection 12203(a);

(c) the first sentence of subsection 14111(a), except with respect to reports relating to the grades of brigadier general or above, or rear admiral (lower half) or above; and

(d) subsection 14310(a), except with respect to removals relating to a promotion list for grades of brigadier general or above, or rear admiral (lower half) or above.

Sec. 2. Assignment of Functions to the Secretary of Homeland Security. The Secretary of Homeland Security shall perform, with respect to the Coast Guard during any period in which it is not operating as a service in the Navy, the functions assigned to the President by the following provisions of the United States Code:

(a) subsection 1521(a) of title 10;

(b) the first sentence of subsection 12203(a) of title 10;

(c) subsection 729(g) of title 14, except with respect to approval of, or removal of a name from, a report relating to the grades of rear admiral (lower half) or above; and

(d) subsection 738(a) of title 14, except with respect to removals relating to a promotion list for grades of rear admiral (lower half) or above.

Sec. 3. Reassignment of Functions Assigned. The Secretary of Defense and the Secretary of Homeland Security may reassign the functions assigned to them by this order to civilian officers, within their respective departments, who hold a position for which the President makes an appointment by and with the advice and consent of the Senate, except that the Secretary of Defense and the Secretary of Homeland Security may not reassign the functions assigned by sections 1(b) and 2(b), respectively. The Secretary of Defense may not reassign the function assigned by section 1(c) of this order except to such an officer within the Office of the Secretary of Defense (as defined in section 131(b) of title 10).

Sec. 4. General Provisions. (a) This order shall take effect on October 1, 2004.

(b) Nothing in this order shall be construed to limit or otherwise affect the authority of the President as Commander in Chief of the Armed Forces of the United States, or under the Constitution and laws of the United States to nominate or to make or terminate appointments.

(c) This order is not intended to, and does not, create any right or benefit, substantive or procedural, enforceable at law or in equity by any party against the United States, its departments, agencies, entities, officers, employees or agents, or any other person.

B

THE WHITE HOUSE,

September 28, 2004.

[FR Doc. 04-22212

Filed 9-29-04; 11:31 am]

Billing code 3195-01-P